DEPARTMENT OF HEALTH AND HUMAN SERVICES

National Institutes of Health

National Center for Complementary and Alternative Medicine; Notice of Meeting

Pursuant to section 10(d) of the Federal Advisory Committee Act, as amended (5 U.S.C. Appendix 2), notice is hereby given of the National Advisory Council for Complementary and Alternative Medicine (NACCAM).

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Advisory Council for Complementary and Alternative Medicine.

Date: November 13, 2000.

Open: 8:30 am to 2 pm.

Agenda: The agenda includes the Director's Report, a presentation on Proposed Program Initiatives, Public Comments, and other business of the Council.

Closed: 2 pm to adjournment.

Agenda: To review and evaluate grant applications and/or proposals.

Place: NIH Neuroscience Office Building, 6001 Executive Blvd., Rockville, MD 20892.

Contact Person: Richard Nahin, Ph.D., Executive Secretary, National Center for Complementary and Alternative Medicine, National Institutes of Health, 6707 Democracy Blvd., Suite 106, Bethesda, MD 20892, 301/496-4792.

The public comments session is scheduled from 1:30-2 pm. Each speaker will be permitted 5 minutes for their presentation. Interested individuals and representatives of organizations are requested to notify Dr. Richard Nahin, National Center for Complementary and Alternative Medicine, NIH, 6707 Democracy Boulevard, Suite 106, Bethesda, Maryland, 20892, 301-496-4792, Fax: 301-480-3621. Letters of intent to present comments, along with a brief description of the organization represented, should be received no later than 5 pm on November 8, 2000. Only one representative of an organization may present oral comments. Any person attending the meeting who does not request an opportunity to speak in advance of the meeting may be considered for oral presentation, if time permits, and at the discretion of the Chairperson. In addition, written comments may be submitted to Dr. Nahin at the address listed above up to ten calendar days (November 23, 2000) following the meeting.

Copies of the meeting agenda and the roster of members will be furnished upon request by Dr. Richard Nahin, Executive Secretary, NACCAM, National Institutes of Health, 6707 Democracy Boulevard, Suite 106, Bethesda, Maryland 20892, (301) 496-4792, Fax 301-480-3621.

This notice is being published less than 15 days prior to the meeting due to scheduling conflicts.

Dated: November 1, 2000.
LaVerne Y. Stringfield,
Director, Office of Federal Advisory Committee Policy, NIH.

[FR Doc. 00-29131 Filed 11-14-00; 8:45 am]

BILLING CODE 4140-01-M